DEPARTMENT OF HEALTH AND HUMAN SERVICES

National Institutes of Health

National Cancer Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications/contract proposals and the discussions could disclose confidential trade secrets or commercial property such as patentable material, and personal information concerning individuals associated with the grant applications, the disclosure of which would constitute a clearly unwarranted invasion of personal privacy.

Name of Committee: National Cancer Institute Initial Review Group, Subcommittee F—Manpower & Training.

Date: February 10, 2009.

Time: 8 a.m. to 6 p.m.

Agenda: To review and evaluate grant applications.

Place: Doubletree Hotel Washington DC, 1515 Rhode Island Avenue, NW., Washington, DC 20005.

Contact Person: Lynn M. Amende, PhD, Scientific Review Officer, Resources And Training Review Branch, Division of Extramural Activities, National Cancer Institute, NIH, 6116 Executive Blvd., Room 8105, Bethesda, MD 20892, 301-451-4759, amendel@mail.nih.gov.

Name of Committee: National Cancer Institute Special Emphasis Panel, SPORE in Brain, Prostate, Kidney, Breast and Melanoma Cancers.

Date: February 11-12, 2009.

Time: 8 a.m. to 5 p.m.

Agenda: To review and evaluate grant applications.

Place: Hilton Washington DC/Rockville, 1750 Rockville Pike, Rockville, MD 20852.

Contact Person: Wlodek Lopaczynski, Md, PhD, Scientific Review Officer, Research Programs Review Branch, Division of Extramural Activities, National Cancer Institute, NIH, 6116 Executive Blvd. Room 8131, Bethesda, MD 20892, 301-594-1402, lopacw@mail.nih.gov.

Name of Committee: National Cancer Institute Initial Review Group, Subcommittee G-Education.

Date: February 17-18, 2009.

Time: 8 a.m. to 5 p.m.

Agenda: To review and evaluate grant applications.

Place: Hilton Washington DC/Rockville, 1750 Rockville Pike, Rockville, MD 20852.

Contact Person: Jeannette F Korczak, PhD, Scientific Review Officer, Resources and Training Review Branch, Division of Extramural Activities, National Cancer Institute, NIH, 6116 Executive Blvd., Room 8115, Bethesda, MD 20892, 301-496-9767, korczakj@mail.nih.gov.

Name of Committee: National Cancer Institute Special Emphasis Panel, Prevention Control and Population Sciences.

Date: February 18-19, 2009.

Time: 8 a.m. to 3 p.m.

Agenda: To review and evaluate grant applications.

Place: Marriott Bethesda North Hotel & Conference Center, 5700 Marinelli Road, Bethesda, MD 20852.

Contact Person: Peter J. Wirth, PhD, Scientific Review Officer, Research Programs Review Branch, Division of Extramural Activities, National Cancer Institute, NIH, 6116 Executive Boulevard, Room 8131, Bethesda, MD 20892-8328, 301-496-7565, pw2q@nih.gov.

Name of Committee: National Cancer Institute Special Emphasis Panel, Education Meeting (K05 & R25).

Date: February 18, 2009.

Time: 10 a.m. to 12 p.m.

Agenda: To review and evaluate grant applications.

Place: Hilton Washington/Rockville, 1750 Rockville Pike, Rockville, MD 20852.

Contact Person: Lynn M Amende, PhD, Scientific Review Officer, Resources and Training Review Branch, Division of Extramural Activities, National Cancer Institute, NIH, 6116 Executive Boulevard, Room 8105, Bethesda, MD 20892-8328, 301-451-4759, amendel@mail.nih.gov.

Name of Committee: National Cancer Institute Special Emphasis Panel, Health Information Technology in Cancer Care.

Date: March 3, 2009.

Time: 8:30 a.m. to 5:30 p.m.

Agenda: To review and evaluate grant applications

Place: National Institutes of Health, 6116 Executive Boulevard, Rockville, MD 20852 (Telephone Conference Call)

Contact Person: Rhonda J. Moore, PhD, Scientific Review Officer, Special Review and Logistics Branch, Division of Extramural Activities, National Cancer Institute, NIH, 6116 Executive Boulevard, Room 7151, Bethesda, MD 20892-8329, 301-451-9385, moorerh@mail.nih.gov.

Name of Committee: National Cancer Institute Special Emphasis Panel, Small Grants for Behavioral Research in Cancer Control.

Date: March 12-13, 2009.

Time: 8:30 a.m. to 6 p.m.

Agenda: To review and evaluate grant applications.

Place: Bethesda Marriott—Pooks Hill, 5151 Pooks Hill Road, Bethesda, MD 20814.

Contact Person: Rhonda J. Moore, PhD, Scientific Review Officer, Special Review and Logistics Branch, Division of Extramural Activities, National Cancer Institute, NIH, 6116 Executive Boulevard, Room 7151, Bethesda, MD 20892-8329, 301-451-9385, moorerh@mail.nih.gov.

Name of Committee: National Cancer Institute Special Emphasis Panel, Smokeless Tobacco Use Cessation.

Date: March 25, 2009.

Time: 8 a.m. to 6 p.m.

Agenda: To review and evaluate grant applications.

Place: Bethesda North Marriott Hotel & Conference Center, 5701 Marinelli Road, Bethesda, MD 20852.

Contact Person: Sherwood Githens, PhD, Scientific Review Officer, Special Review and Logistics Branch, Division of Extramural Activities, National Cancer Institute, 6116 Executive Blvd., Room 8053, Bethesda, MD 20892, 301/435-1822, GITHENSS@MAIL.NIH.GOV.

Name of Committee: National Cancer Institute Special Emphasis Panel, Cancer Disparities Research Partnership Program.

Date: March 26, 2009.

Time: 8:30 a.m. to 6 p.m.

Agenda: To review and evaluate grant applications

Place: Bethesda Marriott—Pooks Hill, 5151 Pooks Hill Road, Bethesda, MD 20814.

Contact Person: Rhonda J. Moore, PhD, Scientific Review Officer, Special Review and Logistics Branch, Division of Extramural Activities, National Cancer Institute, NIH, 6116 Executive Boulevard, Room 7151, Bethesda, MD 20892-8329, 301-451-9385, moorerh@mail.nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: January 5, 2009.
Jennifer Spaeth,
Director, Office of Federal Advisory Committee Policy.

[FR Doc. E9-266 Filed 1-9-09; 8:45 am]

BILLING CODE 4140-01-P